DEPARTMENT OF COMMERCE

National Oceanic and Atmospheric Administration

RIN 0648-XT82

Marine Mammals; File No. 14676

AGENCY: National Marine Fisheries Service (NMFS), National Oceanic and Atmospheric Administration (NOAA), Commerce.

ACTION: Notice; receipt of application for permit amendment.

SUMMARY: Notice is hereby given that Paul Ponganis, Ph.D., University of California at San Diego, La Jolla, CA, has applied for an amendment to Scientific Research Permit No. 14676.

DATES: Written, telefaxed, or email comments must be received on or before December 7, 2011.

ADDRESSES: The application and related documents are available for review by selecting “Records Open for Public Comment” from the Features box on the Applications and Permits for Protected Species home page, https://apps.nmfs.noaa.gov, and then selecting File No. 14676 from the list of available applications.

These documents are also available upon written request or by appointment in the following offices:

Permits and Conservation Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

Written comments on this application should be submitted to the Chief, Permits, Conservation and Education Division, at the address listed above. Comments may also be submitted by facsimile to (301) 713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Tammy Adams or Amy Sloan, (301) 427-8401.

SUPPLEMENTARY INFORMATION: The subject amendment to Permit No. 14676 is requested under the authority of the Marine Mammal Protection Act of 1972, as amended (16 U.S.C. 1361 et seq.), and the regulations governing the taking and importing of marine mammals (50 CFR part 216).

Permit No. 14676, issued on January 13, 2010 (75 FR 4046), authorizes the permit holder to capture up to 10 California sea lions (Zalophus californianus) annually on San Nicolas Island off the coast of California for attachment and retrieval of instruments to study the role of blood oxygen store depletion in the dive behavior and foraging ecology of California sea lions. The permit also authorizes harassment of up to 6,000 California sea lions, 500 harbor seals (Phoca vitulina), 1,000 northern elephant seals (Mirounga angustirostris), and 150 northern fur seals (Callorhinus ursinus) annually incidental to the capture operations. The permit is valid until February 1, 2015.

The permit holder is requesting the permit be amended to include authorization for an additional procedure, deployment of a heart rate/stroke rate recorder, on up to 30 animals over the two field seasons. For this procedure, the holder requests permission to capture an additional 5 animals per year, for a total of 15 per year. The amendment would be valid through the expiration date of the original permit. The objective of this additional procedure is to further investigate the relationship of heart rate and flipper stroke rate patterns to the arterial and venous blood oxygen profiles during deep versus shallow dives.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: November 2, 2011.
P. Michael Payne,
Chief, Permits and Conservation Division, Office of Protected Resources, National Marine Fisheries Service.

[FR Doc. 2011-28780 Filed 11-4-11; 8:45 am]

BILLING CODE 3510-22-P